DEPARTMENT OF THE TREASURY

Internal Revenue Service

26 CFR Part 1

[REG-156518-04]

RIN 1545-BE10

Section 411(d)(6) Protected Benefits; Correction

AGENCY: Internal Revenue Service (IRS), Treasury.

ACTION: Correction to notice of proposed rulemaking and notice of public hearing.

SUMMARY: This document contains a correction to a notice of proposed rulemaking and notice of public hearing that was published in the Federal Register on Friday, August 12, 2005 (70 FR 47155) relating to the anti-cutback rules under section 411(d)(6) of the Internal Revenue Code.

FOR FURTHER INFORMATION CONTACT: Pamela R. Kinard at (202) 622-6060 (not a toll-free number).

SUPPLEMENTARY INFORMATION:

Background

The notice of proposed rulemaking and notice of public hearing (REG-156518-04) that is the subject of this correction is under section 411(d)(6) of the Internal Revenue Code.

Need for Correction

As published, REG-156518-04 contains an error that may prove to be misleading and is in need of clarification.

Correction of Publication

Accordingly, the publication of the notice of proposed rulemaking and notice of public hearing (REG-156518-04), which was the subject of FR Doc 05-15960, is corrected as follows:

On page 47155, column 2, in the preamble, under the caption ADDRESSES, line 17, the language, “156581-04). The public hearing will be” is corrected to read “156518-04). The public hearing will be.”.

Cynthia Grigsby,
Acting Chief, Publications and Regulations, Legal Processing Division, Associate Chief Counsel (Procedure and Administration).

[FR Doc. 05-17959 Filed 9-12-05; 8:45 am]

BILLING CODE 4830-01-P